ENVIRONMENTAL PROTECTION AGENCY

[OPP-2005-0084;FRL-7724-6]

Dimethoate; Product Cancellation Order and Amendments to Terminate Uses

AGENCY: Environmental Protection Agency (EPA).

ACTION: Notice.

SUMMARY: This notice announces EPA's order for amendments to terminate certain uses of products containing the pesticide dimethoate, as well as cancellation of one dimethoate registration, as voluntarily requested by the registrants and accepted by the Agency, pursuant to section 6(f)(1) of the Federal Insecticide, Fungicide, and Rodenticide Act (FIFRA), as amended. This cancellation order follows a May 4, 2005 Federal Register Notice of Receipt of Requests from the dimethoate registrants to amend or voluntarily cancel their registrations to terminate certain uses of products containing dimethoate. In the May 4, 2005 Notice, EPA indicated that it would issue an order implementing the cancellations and amendments to terminate uses, unless the Agency received substantive comments within the 30-day comment period that would merit its further review of these requests, or unless the registrants withdrew their requests within this period. The Agency did not receive any comments on the Notice. Further, the registrants did not withdraw their requests. Accordingly, EPA hereby issues in this notice a cancellation order granting the requested cancellation and amendments to terminate uses. Any distribution, sale, or use of the dimethoate products subject to this cancellation order is permitted only in accordance with the terms of this order, including any existing stocks provisions.

DATES: The cancellations are effective July 20, 2005.

FOR FURTHER INFORMATION CONTACT: Stephanie Plummer, Special Review and Reregistration Division (7508C), Office of Pesticide Programs, Environmental Protection Agency, 1200 Pennsylvania Ave., NW., Washington, DC 20460-0001; telephone number: (703) 305-0076; fax number: (703) 308-7042; e-mail address: plummer.stephanie @epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2005-0084. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the Federal Register listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces one cancellation and amendments to terminate certain uses, as requested by registrants, of dimethoate products registered under section 3 of FIFRA. These registrations are listed in sequence by registration number in Tables 1 and 2 of this unit.

Table 1.—Dimethoate Product Cancellations
EPA Registration No. | Product Name | Company
16-160 | Dragon Cygon 2E Systemic Insecticide | Dragon Chemical Corporation

Table 2.—Dimethoate Product Registration Amendments to Terminate Uses
EPA Registration No. | Product Name | Company
400-278 | De-fend E-267 Dimethoate Systemic Insecticide | Crompton Manufacturing Company, Inc.
829-251 | SA-50 Brand Cygon 2E Dimethoate Systemic Insecticide | Southern Agricultural Insecticides, Inc.
1386-618 | Dimethoate 267EC Systemic Insecticide | Universal Cooperatives, Inc.
1386-625 | Dimethoate 400 | Universal Cooperatives, Inc.
5481-102 | Durham Duragon 2.67 Systemic Insecticide | Amvac Chemical Corp.
5481-133 | Duragon 25% Wettable Powder Systemic Insecticide | Amvac Chemical Corp.
5905-493 | Dimethoate 4 E.C. | Helena Chemical
5905-497 | 5 LB Dimethoate Systemic Insecticide | Helena Chemical
7401-97 | Ferti-lome Systemic Evergreen Spray | Voluntary Purchasing Group Inc.
7401-106 | Ferti-lome Spider Mite Spray | Voluntary Purchasing Group Inc.
7401-338 | High-yield Cygon Systemic Insect Spray | Voluntary Purchasing Group Inc.
7969-30 | Rebelate Dimethoate Systemic Insecticide | BASF Corporation
7969-38 | Rebelate 2E Insecticide | BASF Corporation
9779-206 | Dimate 2.67 | Agriliance LLC
9779-273 | Dimate 4E | Agriliance LLC
10163-55 | Prokil Dimethoate W-25 Insecticide | Gowan Co.
10163-56 | Prokil Dimethoate E267 | Gowan Co.
10163-160 | Gowan Dimethoate 4 | Gowan Co.
19713-231 | Drexel Dimethoate 4EC | Drexel Chemical Co.
19713-232 | Drexel Dimethoate 2.67 | Drexel Chemical Co.
34704-207 | Dimethoate 400 | Loveland Products, Inc.
34704-489 | Dimethoate 2.67 EC | Loveland Products, Inc.
51036-110 | Dimethoate 4E | Micro-Flo Company LLC
51036-169 | Dimethoate 25 WP | Micro-Flo Company LLC
51036-192 | Micro Flo Dimethoate 2.67 EC | Micro-Flo Company LLC
51036-198 | Cymate 267 | Micro-Flo Company LLC
67760-36 | Chemathoate 267 E.C. Systemic Insecticide | Cheminova Inc.
67760-44 | Dimethoate 4W | Cheminova Inc.

Note that registration #34704-540 was listed in the May 4, 2005 notice, but has been left out of this notice because it was previously cancelled through maintenance fees.

Table 3 of this unit includes the names and addresses of record for all registrants of the products in Tables 1 and 2 of this unit, in sequence by EPA company number.

Table 3.—Registrants of Cancelled And/or Amended Dimethoate Products
EPA Company No. | Company Name and Address
16 | Dragon Chemical Corporation 71 Carolyn Blvd. Farmingdale, NY 11735
400 | Crompton Manufacturing Company, Inc. 74 Amity Road Bethany, CT 06524
829 | Southern Agricultural Pesticides Inc. PO Box 218 Palmetto, FL 34220
1386 | Universal Cooperatives 1300 Corporate Center Curve Eagan, MN 55121
5481 | Amvac Chemical Corporation 4695 MacArthur Court, Suite 1250 Newport Beach, CA 92660
5905 | Helena Chemical 225 Schilling Blvd., Suite 300 Collierville, TN 38017
7401 | Brazos Associates, Inc. (Agent for Voluntary Purchasing Group) 1806 Auburn Drive Carrollton, TX 75007
7969 | BASF Agricultural Products Center Regulatory Affairs Department 26 Davis Dr., PO Box 13528 Research Triangle Park, NC 27709
9779 | D. O'Shaughnessy Consulting Inc. (Agent for Agriliance LLC) 21 Birch Parkway Sparta, NJ 07871
10163 | Gowan Co. PO Box 5569 Yuma, AZ 85366
19713 | Drexel Chemical Co. 1700 Channel Ave., PO Box 13327 Memphis, TN 38113
34704 | Loveland Products, Inc. PO Box 1286 Greeley, CO 80632
51036 | Micro-Flo Company LLC 530 Oak Court Dr. Memphis, TN 38117
67760 | Cheminova Inc., Washington Office 1620 Eye Street, N.W., Suite 615 Washington, DC 20006

III. Summary of Public Comments Received and Agency Response to Comments

During the public comment period provided, EPA received no comments in response to the May 4, 2005 Federal Register notice announcing the Agency's receipt of the requests for voluntary cancellation and/or amendments to terminate certain uses of dimethoate.

IV. Cancellation Order

Pursuant to FIFRA section 6(f), EPA hereby approves the requested cancellation and amendments to terminate certain uses of dimethoate registrations identified in Tables 1 and 2 of Unit II. Accordingly, the Agency orders that the dimethoate product registration identified in Table 1 of Unit II.is hereby canceled and the product registrations identified in Table 2 of Unit II are hereby amended to terminate use on apples, broccoli raab, cabbage, collards, fennel, grapes, head lettuce, lespedeza, spinach, tomatillo, and trefoil. Any distribution, sale, or use of existing stocks of the products identified in Tables 1 and 2 of Unit II.in a manner inconsistent with any of the Provisions for Disposition of Existing Stocks set forth below in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in theFederal Register. Thereafter, following the public comment period, the Administrator may approve such a request.

VI. Provisions for Disposition of Existing Stocks

Existing stocks are defined in EPA's existing stocks policy (56 FR 29362, June 26, 1991) as those stocks of registered pesticide products which are currently in the United States and which were packaged, labeled, and released for shipment prior to the effective date of the cancellation action or amendment of their registrations. Any distribution, sale, or use of existing stocks, except as provided in the amendment or cancellation order, would be considered a violation of section 12(a)(2)(K) and/or 12(a)(1)(A) of FIFRA.

The cancellation order issued in this Notice includes the following existing stocks provisions.

1. Distribution or sale of products by the registrant labeled for use on apples, broccoli raab, cabbage, collards, fennel, grapes, head lettuce, lespedeza, spinach, tomatillo, and trefoil:

The registrant of any product listed in Table 1 or 2 may distribute or sell existing stocks of the product bearing labels for use on apples, broccoli raab, cabbage, collards, fennel, grapes, head lettuce, lespedeza, spinach, tomatillo, or trefoil for one year after the effective date of this cancellation/amendment order. The distribution or sale of existing stocks by the registrant of any product listed in Table 1 or 2 will not be lawful under FIFRA one year after the effective date of the cancellation or amendment order, except for the purposes of shipping such stocks for export, consistent with section 17 of FIFRA, or for proper disposal.

2. Distribution, sale, or use of products by persons other than the registrant labeled for use on apples, broccoli raab, cabbage, collards, fennel, grapes, head lettuce, lespedeza, spinach, tomatillo, and trefoil.

Any person other than the registrant may distribute, sell, and use existing stocks of any product listed in Table 1 or 2 that is labeled for use on apples, broccoli raab, cabbage, collards, fennel, grapes, head lettuce, lespedeza, spinach, tomatillo, and trefoil after the effective date of this cancellation/amendment order until such existing stocks are exhausted.

List of Subjects

Environmental protection, Pesticides and pests.

Dated: July 8, 2005.
Debra Edwards,
Director, Special Review and Reregistration Division, Office of Pesticide Programs.

[FR Doc. 05-14070 Filed 7-19-05; 8:45 am]

BILLING CODE 6560-50-S